DEPARTMENT OF THE INTERIOR

National Park Service

[NPS-WASO-NAGPRA-19126; PPWOCRADN0-PCU00RP14.R50000]

Notice of Inventory Completion: U.S. Department of the Interior, National Park Service, Natchez Trace Parkway, Tupelo, MS

AGENCY: National Park Service, Interior.

ACTION: Notice.

SUMMARY: The U.S. Department of the Interior, National Park Service, Natchez Trace Parkway has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to Natchez Trace Parkway. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to Natchez Trace Parkway at the address in this notice by November 16, 2015.

ADDRESSES: Mary Risser, Superintendent, Natchez Trace Parkway, 2680 Natchez Trace Parkway, Tupelo, MS 38804-9715, telephone (662) 680-4005, email mary_risser@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Natchez Trace Parkway, Tupelo, MS. The human remains and associated funerary objects were removed from Lee, Prentiss, and Tishomingo Counties, MS.

This notice is published as part of the National Park Service's administrative responsibilities under NAGPRA, 25 U.S.C. 3003(d)(3) and 43 CFR 10.11(d). The determinations in this notice are the sole responsibility of the Superintendent, Natchez Trace Parkway.

Consultation

A detailed assessment of the human remains was made by Natchez Trace Parkway professional staff in consultation with representatives of the Alabama-Coushatta Tribe of Texas, The Chickasaw Nation, and the United Keetoowah Band of Cherokee Indians in Oklahoma.

History and Description of the Remains

On an unknown date, human remains representing, at minimum, three individuals, were removed from the Citizens Bank Property site in Lee County, MS. The exact details of removal are unknown, but documentation indicates that the remains were likely removed by Natchez Trace naturalist Francis Elmore. No known individuals were identified. No associated funerary objects are present.

In 1940, human remains representing, at minimum, four individuals were removed from the Carr site in Lee County, MS, during Works Progress Administration (WPA) excavations. The site is dated to the Late Woodland-Early Mississippian period (circa 1000 B.C.-A.D. 1200). No known individuals were identified. The 287 associated funerary objects are 140 Mulberry Creek vessel fragments, 3 Furrs Cord Marked vessel fragments, 1 Mississippi Plain vessel fragment, 8 Baytown Plain vessel fragments, 1 Baldwin Plain vessel fragment, 6 untyped vessel fragments, 1 piece of daub, 5 flakes, 3 pieces of shatter, 1 piece of ochre, 2 flake tools, 1 scraper, 2 bifaces, 1 core tool, 2 pieces of sandstone, 29 deer bones, 1 turkey bone, 6 box turtle bones, 26 mammal bones, and 48 animal bones.

In 1940, human remains representing, at minimum, one individual were removed from Jennings Dig Number One in Lee County, MS, during WPA excavations. The site is dated to the Miller I-II periods (100 B.C.-A.D. 500). No known individuals were identified. The 22 associated funerary objects are 1 biface, 1 piece of shatter, 1 concretion, 3 Baytown Plain vessel fragments, 1 untyped vessel fragment, and 15 fossil fragments.

In 1940, human remains representing, at minimum, 35 individuals were removed from Miller Mounds in Lee County, MS, during WPA excavations. The site is dated to the Woodland period (A.D. 500-1000). No known individuals were identified. The 39 associated funerary objects are 4 Saltillo Fabric Marked vessel fragments, 3 Saltillo Plain vessel fragments, 2 Baldwin Plain vessel fragments, 5 untyped vessel fragments, 7 projectile points, 1 Lowe Cluster projectile point, 3 bifaces, 4 flakes, 1 platform pipe, 1 busycon shell, 1 chert knife, 1 piece of shatter, 1 unmodified stone, 2 flake tools, 2 Baldwin Plain bowls, and 1 Furrs Cord Marked jar.

In 1947-1951, human remains representing, at minimum, one individual were removed from the Chewapa site in Lee County, MS, by an unknown individual who gave the remains to the WPA survey in the area. The site is dated to the Miller III/Late Woodland period (circa A.D. 500-1200). No known individuals were identified. No associated funerary objects are present.

In 1948, human remains representing, at minimum, one individual were removed from Headquarters Mound in Lee County, MS, during excavation and survey. The site dates to the Late Woodland period (circa A.D. 500-1000). No known individuals were identified. No associated funerary objects are present.

In 1948, human remains representing, at minimum, three individuals were removed from Old Rodgers Place Number One in Lee County, MS, during a WPA survey. The site is prehistoric Native American, but an exact date is unknown. No known individuals were identified. No associated funerary objects are present.

In 1949, human remains representing, at minimum, one individual, were removed from the Coonewah Creek site in Lee County, MS, during a site survey. The site dates to the Miller III/Late Woodland Period (circa A.D. 500-1200). No known individuals were identified. No associated funerary objects are present.

In 1965, human remains representing, at minimum, three individuals were removed from Bear Creek Temple Mound in Tishomingo County, MS, during archeological investigations. The site dates to the Late Mississippian period (circa A.D. 1400-1600). No known individuals were identified. The three associated funerary objects are one untyped vessel fragment and two deer bones.

In 1972, human remains representing, at minimum, six individuals were removed from Pharr Mounds in Prentiss County, MS, during excavations of the village area and four mounds. The site dates to the Miller I-II phases of the Middle Woodland period (circa A.D. 0-500). No known individuals were identified. The 14 associated funerary objects are 7 Saltillo Fabric vessel fragments, 6 Baldwin Plain vessel fragments, and 1 untyped vessel fragment.

In 1978, human remains representing, at minimum, two individuals were removed from Pharr Mounds in Prentiss County, MS. The remains were removed during excavations to investigate the impact of construction near the site. No known individuals were identified. No associated funerary objects are present.

Cultural affiliation of the human remains described above could not be determined due to uncertain burial provenience, lack of culturally affiliated historic artifacts, and/or the antiquity of the remains.

Determinations Made by Natchez Trace Parkway

Officials of Natchez Trace Parkway have determined that:

• Pursuant to 25 U.S.C. 3001(9), the human remains described in this notice are Native American based on archeological context.

• Pursuant to 25 U.S.C. 3001(9), the human remains described in this notice represent the physical remains of 60 individuals of Native American ancestry.

• Pursuant to 25 U.S.C. 3001(3)(A), the 365 objects described in this notice are reasonably believed to have been placed with or near individual human remains at the time of death or later as part of the death rite or ceremony. The National Park Service intends to convey the associated funerary objects to the tribes pursuant to 16 U.S.C. 18f-2.

• Pursuant to 25 U.S.C. 3001(2), a relationship of shared group identity cannot be reasonably traced between the Native American human remains and associated funerary objects and any present-day Indian tribe.

• Treaties, Acts of Congress, or Executive Orders, indicate that the land from which the Native American human remains and associated funerary objects were removed is the aboriginal land of The Chickasaw Nation.

• Pursuant to 43 CFR 10.11(c)(1), the disposition of the human remains and associated funerary objects may be to The Chickasaw Nation.

Additional Requestors and Disposition

Representatives of any Indian tribe or Native Hawaiian organization not identified in this notice that wish to request transfer of control of these human remains and associated funerary objects should submit a written request with information in support of the request to Mary Risser, Superintendent, Natchez Trace Parkway, 2680 Natchez Trace Parkway, Tupelo, MS 38804-9715, telephone (662) 680-4005, email mary_risser@nps.gov, by November 16, 2015. After that date, if no additional requestors have come forward, transfer of control of the human remains and associated funerary objects to The Chickasaw Nation may proceed.

Natchez Trace Parkway is responsible for notifying the Alabama-Coushatta Tribe of Texas, The Chickasaw Nation, and the United Keetoowah Band of Cherokee Indians in Oklahoma that this notice has been published.

Dated: August 25, 2015.
Melanie O'Brien,
Manager, National NAGPRA Program.

[FR Doc. 2015-26331 Filed 10-15-15; 8:45 am]

BILLING CODE 4312-50-P